DEPARTMENT OF HEALTH AND HUMAN SERVICES

Office of the Secretary

Office of the Assistant Secretary for Public Affairs; Statement of Organization, Functions and Delegations of Authority

Part A, Office of the Secretary, Statement of Organization, Functions, and Delegations of Authority of the Department of Health and Human Services (HHS) is being amended at Chapter AP, “Office of the Assistant Secretary for Public Affairs (OASPA),” as last amended at 58 FR 52969-02, dated October 13, 1993. The proposed change is to make the following changes in the Office of the Assistant Secretary Public Affairs (Media): revise the functional statement for the News Division (APBI); and establish a new Web Communications Division (APB4). The changes are described below:

I. Under Part A, Chapter AP, Section AP.10 Organization, delete in its entirety and replace with the following:

AP.10 Organization. The Office of the Assistant Secretary for Public Affairs, headed by the Assistant Secretary for Public Affairs (ASPA) who reports to the Secretary, consists of the following organization:

• The Office of the Assistant Secretary for Public Affairs

• The Office of the Deputy Assistant Secretary for Public Affairs (Policy and Strategy)

—Communications Services Division

—Special Outreach Division

• The Office of the Deputy Assistant Secretary for Public Affairs (Medid)

—News Division

—Speech and Editorial Division

—FOIA/Privacy Act Division

—Web Communiations Division

II. Under Section AP.20 Functions, paragraph C.1, “News Division,” delete in its entirety, and replace with the following:

C.1 News Division (APB1)—Plans, directs and coordinates the issuance of public information from HHS to the press and broadcast media.

Prepares news releases and other news material for the Secretary and other top Department officials. Reviews and clears all news releases and other news materials prepared by HHS components.

Identifies news opportunities for the Secretary.

Makes recommendations concerning press releases on upcoming publication of regulations or other actions.

Identifies likely media questions for news conferences and interviews, assists in preparing background briefings for encounters with the press.

Briefs the Secretary, Deputy Secretary, and Chief of Staff, in conjunction with other departmental experts for all media events.

Responds to press queries, either directly or by steering reporters to appropriate public affairs personnel in Operating Division press offices. Reviews for approval all media interview requests received by HHS components.

Coordinates press conferences for the Secretary. Acts as a liaison for reporters requesting interviews and for newspaper editorial boards wishing to meet with the Secretary.

Monitors major national media, and selected local media when appropriate, and distributes articles of interest throughout the day to key staff.

Leads the planning, development and implementation of emergency incident communications strategies and activities for the Department.

III. Under section AP.20 Functions, at the end paragraph C.3, add the following new paragraph:

C.4 Web Communications Division (APB4): Leads the review of HHS Web information content, presentation, uses and technologies, and recommends and/or implements web-based information policy, guidance and tools for the Department, as appropriate.

Leads the review of the content of all proposed Department-wide and OS-level sites to ensure they are consistent with Departmental policies and goals.

Leads the development of Department Internet policy and public affairs issues as well as a development of a Department-wide policy on the creation and clearance of Web sites.

Manages daily operations of the main HHS public Web site. Manages additional Office of the Secretary-level Web sites, as appropriate.

Manages daily operations of the HHS intranet, and tools in support of HHS Web and intranet sites.

Dated: October 5, 2005.
Joe W. Ellis,
Assistant Secretary for Administration and Management.

[FR Doc. 05-21249 Filed 10-24-05; 8:45am]

BILLING CODE 4150-03-M